NUCLEAR REGULATORY COMMISSION

[Docket No. 50-440; NRC-2023-0136]

Vistra Operations Company, LLC; Perry Nuclear Power Plant, Unit 1; License Renewal and Record of Decision

AGENCY: Nuclear Regulatory Commission.

ACTION: Notice; issuance.

SUMMARY: The U.S. Nuclear Regulatory Commission (NRC) has issued Renewed Facility Operating License No. NPF-58 to Vistra Operations Company, LLC (Vistra or the licensee), for Perry Nuclear Power Plant (Perry), Unit 1. In addition, the NRC has prepared a record of decision (ROD) that supports the NRC's decision to issue Renewed Facility Operating License No. NPF-58.

DATES: The Renewed Facility Operating License No. NPF-58 was issued on July 7, 2025.

ADDRESSES: Please refer to Docket ID NRC-2023-0136 when contacting the NRC about the availability of information regarding this document. You may obtain publicly available information related to this document using any of the following methods:

• Federal Rulemaking Website: Go to https://www.regulations.gov and search for Docket ID NRC-2023-0136. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Vaughn Thomas, Office of Nuclear Reactor Regulation, U.S. Nuclear Regulatory Commission, Washington, DC 20555-0001; telephone: 301-415-5897; email: Vaughn.Thomas@nrc.gov.

SUPPLEMENTARY INFORMATION:

I. Discussion

Notice is hereby given that the NRC has issued Renewed Facility Operating License No. NPF-58 to Vistra for Perry, Unit 1. Vistra is the operator of the facility. Renewed Facility Operating License No. NPF-58 authorizes Vistra to operate Perry, Unit 1 at reactor core power levels not in excess of 3,758 megawatts thermal, in accordance with the provisions of Perry, Unit 1, renewed operating license and technical specifications. Notice is also given that the ROD that supports the NRC's decision to issue Renewed Facility Operating License No. NPF-58 is available in the “Availability of Documents” section of this document.

As discussed in the ROD and the final supplemental environmental impact statement (EIS), published as NUREG-1437, “Generic Environmental Impact Statement for License Renewal of Nuclear Plants, Supplement 61, Regarding License Renewal of Perry Nuclear Power Plant, Final Report,” dated April 2025. The final EIS documents the NRC staff's environmental review, including the determination that the adverse environmental impacts of license renewal for Perry, Unit 1 are not so great that preserving the option of license renewal for energy planning decisionmakers would be unreasonable. The final EIS conclusion is based on (1) information provided in the environmental report submitted by Vistra, as supplemented, (2) the NRC staff's consultations with Federal, State, Tribal, and local agencies, (3) the NRC staff's independent environmental review, and (4) the NRC staff's consideration of public comments received during the scoping process and on the 2024 draft site-specific EIS, as well as the consideration of mitigation measures.

Perry, Unit 1 is a Mark 3, boiling water reactor located on the shore of Lake Erie in Lake County, Ohio, approximately 35 miles northeast of Cleveland, Ohio. The application for the renewed license, “Perry Nuclear Power Plant, Unit 1, License Renewal Application,” is dated July 3, 2023, and has been supplemented (see “Availability of Documents” section, of this document). The NRC staff has detemined that Vistra's application complies with the standards and requirements of the Atomic Energy Act of 1954, as amended (the Act), and the NRC's regulations. As required by the Act and NRC regulations in chapter 1 of title 10 of the Code of Federal Regulations (10 CFR), the NRC has made appropriate findings, which are set forth in the renewed license.

A public notice of the NRC's acceptance for docketing of the renewed license application and an opportunity for a hearing was published in the Federal Register on September 29, 2023 (88 FR 67373).

For further details with respect to this action, see: (1) Vistra Operations Company, LLC's license renewal application for Perry, Unit 1, dated July 3, 2023, as supplemented by letters dated through January 30, 2025; (2) the NRC's safety evaluation, published in May 2025; (3) the NRC's final environmental impact statement (NUREG-1437, Supplement 61) for Perry, Unit 1, published in April 2025; and (4) the NRC's ROD, issued on July 7, 2025.

II. Availability of Documents

The documents identified in the following table are available to interested persons through one or more of the following methods, as indicated.

Document description | ADAMS Accession No.
License Renewal Application for the Perry Nuclear Power Plant, dated July 3, 2023 | ML23184A081.
Record of Decision—License Renewal Application Review—Perry Nuclear Power Plant Unit 1, dated July 7, 2025 | ML25160A138.
Safety Evaluation Report, Related to the License Renewal of Perry Nuclear Power Plant, Unit 1, published May 2025 | ML25148A362.
NUREG-1437, “Generic Environmental Impact Statement for License Renewal of Nuclear Plants, Supplement 61, Regarding License Renewal of Perry Nuclear Power Plant, Final Report,” published April 2025 | ML25113A032.
NUREG-1437, “Generic Environmental Impact Statement for License Renewal of Nuclear Plants, Revision 1, Volumes 1-3, Final Report,” published June 2013 | ML13107A023 (package).
NUREG-1437, “Generic Environmental Impact Statement for License Renewal of Nuclear Plants, Revision 2, Volumes 1-3, Final Report,” published August 2024 | ML24087A133 (package).
Perry Nuclear Power Plant, Unit 1, License Renewal Application—Supplement 1, dated August 7, 2024 | ML24220A270.
Perry Nuclear Power Plant, Unit 1, License Renewal Application—Supplement 2, dated June 27, 2024 | ML24180A010.
Perry Nuclear Power Plant, Unit 1, License Renewal Application—Supplement 3, dated July 24, 2024 | ML24206A150.
Perry Nuclear Power Plant, Unit 1, License Renewal Application—Supplement 4, dated September 5, 2024 | ML24249A123.
Perry Nuclear Power Plant, Unit 1, License Renewal Application—Supplement 5, dated October 21, 2024 | ML24295A352.
Perry Nuclear Power Plant, Unit 1, License Renewal Application—Supplement 6, dated November 7, 2024 | ML24312A368.
Perry Nuclear Power Plant, Unit 1, License Renewal Application—Supplement 7, dated December 19, 2024 | ML24354A265.
Perry Nuclear Power Plant, Unit 1, License Renewal Application—Supplement 8, dated January 27, 2025 | ML25027A327.
License Renewal Application—Response to Request for Additional Information—Set 1, dated September 16, 2024 | ML24260A266.
License Renewal Application—Response to Request for Additional Information—Set 2, dated October 2, 2024 | ML24276A083.
License Renewal Application—Response to Request for Additional Information—Set 3, dated November 19, 2024 | ML24324A185.
License Renewal Application—Response to Request for Additional Information—Set 4, dated February 5, 2025 | ML25036A154.
License Renewal Application—Response to Request for Additional Information—Set 5, dated March 20, 2025 | ML25079A062.
License Renewal Application—Response to Requests for Confirmatory Information—Set 1, dated October 31, 2024 | ML24305A134.
License Renewal Application—Response to Requests for Confirmatory Information—Set 2, dated December 4, 2024 | ML24339A066.
License Renewal Application—Responses to Request for Confirmatory Information—Set 3, dated January 30, 2025 | ML25030A014.

Dated: July 7, 2025.
For the Nuclear Regulatory Commission.
Michele Sampson,
Director, Division of New and Renewed Licenses, Office of Nuclear Reactor Regulation.

[FR Doc. 2025-12782 Filed 7-9-25; 8:45 am]

BILLING CODE 7590-01-P